COMMISSION ON CIVIL RIGHTS

Notice of Public Meeting of the Hawai‘i State Advisory Committee for the Purpose of Holding a Public Meeting on the Civil Rights of Micronesians

AGENCY: U.S. Commission on Civil Rights.

ACTION: Announcement of meeting.

SUMMARY: Notice is hereby given, pursuant to the provisions of the rules and regulations of the U.S. Commission on Civil Rights (Commission) and the Federal Advisory Committee Act (FACA) that a meeting of the Hawai‘i State Advisory Committee (Committee) to the Commission will be held on Thursday, August 20, 2015, for the purpose of holding a public meeting on the civil rights of Micronesians. The meeting will be held at the Hawaii State Capitol Auditorium, 415 S. Beretania Street, Honolulu, HI 96813. The meeting is scheduled to begin at 9:30 a.m. and adjourn at approximately 5:00 p.m.

Members of the public are entitled to make comments in the open period at the end of the meeting. Members of the public may also submit written comments. The comments must be received in the Western Regional Office of the Commission by September 20, 2015. The address is Western Regional Office, U.S. Commission on Civil Rights, 300 N. Los Angeles Street, Suite 2010, Los Angeles, CA 90012. Persons wishing to email their comments may do so by sending them to Peter Minarik, Regional Director, Western Regional Office, at pminarik@usccr.gov. Persons who desire additional information should contact the Western Regional Office, at (213) 894-3437, (or for hearing impaired TDD 913-551-1414), or by email to pminarik@usccr.gov. Hearing-impaired persons who will attend the meeting and require the services of a sign language interpreter should contact the Regional Office at least ten (10) working days before the scheduled date of the meeting.

Records and documents discussed during the meeting will be available for public viewing prior to and after the meeting at https://database.faca.gov/committee/meetings.aspx?cid=244 and clicking on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda

Public meeting on the civil rights of Micronesians—9:30 a.m.

Public comment—4:00 p.m.

Adjournment—5:00 p.m.

DATES: Thursday, August 20, 2015.

ADDRESSES: The Hawai‘i State Capitol Auditorium, 415 S. Beretania Street, Honolulu, HI 96813.

FOR FURTHER INFORMATION CONTACT: Peter Minarik, DFO, at (213) 894-3437 or pminarik@usccr.gov.

Dated: July 31, 2015.
David Mussatt,
Chief, Regional Programs Coordination Unit.

[FR Doc. 2015-19186 Filed 8-4-15; 8:45 am]

BILLING CODE 6335-01-P